DEPARTMENT OF THE INTERIOR

Bureau of Ocean Energy Management

[Docket No. BOEM-2020-0018]

Alaska Outer Continental Shelf, Cook Inlet Planning Area, Oil and Gas Lease Sale 258

AGENCY: Bureau of Ocean Energy Management (BOEM), Interior.

ACTION: Notice of Availability of a Record of Decision.

SUMMARY: BOEM announces the availability of the Record of Decision (ROD) for the Cook Inlet Outer Continental Shelf (OCS) Oil and Gas Lease Sale 258. This ROD identifies the selected alternative for Lease Sale 258, which is analyzed in the Alaska OCS: Cook Inlet Planning Area Oil and Gas Lease Sale 258 in the Cook Inlet, Alaska; Final Environmental Impact Statement (FEIS) (OCS/EIS EA BOEM 2022-061). The ROD and associated information are available on BOEM's website at https://www.boem.gov/ak258.

FOR FURTHER INFORMATION CONTACT: Sharon Randall, Bureau of Ocean Energy Management, Alaska Regional Office, 3801 Centerpoint Drive, Suite 500, Anchorage, Alaska 99503, 907-334-5235.

SUPPLEMENTARY INFORMATION: BOEM is required to hold Lease Sale 258 on or before December 31, 2022, pursuant to the Inflation Reduction Act of 2022 (IRA, Pub. L. 117-169), signed into law on August 16, 2022. The Cook Inlet Lease Sale Area is located offshore of the State of Alaska in the northern portion of the Federal waters of Cook Inlet and is comprised of 224 OCS blocks. BOEM evaluated five alternatives and several sub-alternatives in the Lease Sale 258 FEIS. While BOEM has no discretion in whether to hold Lease Sale 258, BOEM issued the Lease Sale 258 FEIS and is issuing the ROD in accordance with its normal leasing process to the fullest extent practicable.

After careful consideration, the Department of the Interior (DOI) has selected the Preferred Alternative in the Lease Sale 258 FEIS. The Preferred Alternative combines the two critical habitat exclusion alternatives and three mitigation alternatives: Alternative 3A (Beluga Whale Critical Habitat Exclusion), Alternative 3C (Beluga Whale Nearshore Feeding Areas Mitigation), Alternative 4A (Northern Sea Otter Critical Habitat Exclusion), Alternative 4B (Northern Sea Otter Critical Habitat Mitigation), and Alternative 5 (Gillnet Fishery Mitigation).

The Preferred Alternative will offer for lease 193 unleased OCS blocks (approximately 387,771 hectares (ha) or 958,202 acres). The Preferred Alternative excludes the 17 OCS blocks wholly or partially overlapping beluga whale and northern sea otter critical habitats. The Preferred Alternative also applies additional mitigation measures to reduce potential impacts to beluga whales and their critical habitat and feeding areas, sea otters and their critical habitat, and the gillnet fishery. Each of these mitigations will be implemented through lease stipulations to applicable leases. The selection of the Preferred Alternative includes the following exclusions and mitigation measures, described as alternatives in the FEIS:

Beluga Whale Critical Habitat Exclusion (Alternative 3A)

This exclusion applies to the 10 OCS blocks that overlap with the “Area 2” beluga whale critical habitat at the northern tip of the proposed sale area analyzed in the Lease Sale 258 FEIS. These OCS blocks will not be offered for lease and represent approximately 0.85 percent of the total area of the beluga whale critical habitat.

Beluga Whale Nearshore Feeding Areas Mitigation (Alternative 3C)

This mitigation measure creates temporal restrictions for on-lease seismic survey activities within the Lease Sale Area. On all 193 OCS blocks being offered for lease, no on-lease marine seismic surveys will be conducted between November 1 and April 1, when beluga whales are most likely to be present and distributed across the Lease Sale Area. The Protection of Beluga Whales Stipulation will be included on all leases issued as a result of Lease Sale 258.

Additionally, for blocks located within 10 miles of major anadromous streams, lessees will not conduct on-lease marine seismic surveys between July 1 and September 30, when beluga whales are migrating to and from their summer feeding areas. The Protection of Beluga Whale Nearshore Feeding Areas Stipulation will be included on any leases issued for blocks located within 10 miles of major anadromous streams.

Northern Sea Otter Critical Habitat Exclusion (Alternative 4A)

This exclusion applies to the 7 OCS blocks that overlap with the northern sea otter southwest Alaska distinct population segment (SW DPS) critical habitat within the proposed sale area analyzed in the Lease Sale 258 FEIS. These OCS blocks will not be offered for lease.

Northern Sea Otter Critical Habitat Mitigation (Alternative 4B)

This mitigation measure prohibits lessees from discharging drilling fluids and cuttings and conducting seafloor disturbing activities (including anchoring and placement of bottom-founded structures) within 1,000 meters of areas designated as northern sea otter critical habitat. The Protection of Northern Sea Otter SW DPS Critical Habitat Stipulation will be included on any leases issued on the 7 OCS blocks within 1,000 meters of northern sea otter critical habitat.

Gillnet Fishery Mitigation (Alternative 5)

This mitigation measure applies to the 97 OCS blocks (whole or partial) located north of Anchor Point within the Lease Sale Area to reduce the potential for conflicts with the drift gillnet fishery. Lessees are prohibited from conducting on-lease seismic surveys during the drift gillnetting season as designated by the Alaska Department of Fish and Game (ADF&G) (approximately mid-June to mid-August). In addition, lessees are advised that the Cook Inlet drift gillnet fishery typically operates on Mondays and Thursdays during the drift gillnetting season as designated by the ADF&G. Lessees are required to notify the United Cook Inlet Drift Association (UCIDA) of any temporary or permanent structures planned during the drift gillnetting season. Lessees are encouraged to coordinate with the UCIDA to avoid conflicts. The Protection of Gillnet Fishery Stipulation will be included on any leases issued for these blocks.

Each of these Alternatives will be implemented through exclusions or lease stipulations, which would apply to all or some of the OCS blocks offered for lease. For each of the lease stipulations described above, lessees may request a variance at the time of filing an ancillary activities notice, an exploration plan, or a development and production plan with BOEM's Regional Supervisor for Leasing and Plans. Such requests must identify alternative methods for providing commensurate protection and analyze the effectiveness of those methods.

There are currently 14 active OCS oil and gas leases in the Cook Inlet Planning Area. The Lease Sale Area (Area ID) encompasses approximately 442,500 ha or 1.09 million acres, of which approximately 387,771 ha or 958,202 acres will be offered for lease. The unleased OCS blocks within Cook Inlet that BOEM will offer for lease are listed in the document entitled “List of Blocks Available for Leasing,” which is included in the Final Notice of Sale package for Lease Sale 258. The estimated resource potential of the area to be leased is 192.3 million barrels of oil and 301.9 billion cubic feet of natural gas.

BOEM's Alaska Regional Office developed the Preferred Alternative after considering public comments on the Draft EIS. BOEM also considered the oil and gas resource potential in the Cook Inlet area and the likelihood of industry to develop those resources in the context of social, economic, and environmental values, impacts, and concerns.

Authority: 42 U.S.C. 4321 et seq. (National Environmental Policy Act) and 40 CFR parts 1505 and 1506.

Amanda Lefton,
Director, Bureau of Ocean Energy Management.

[FR Doc. 2022-25792 Filed 11-28-22; 8:45 am]

BILLING CODE 4340-98-P